DEPARTMENT OF STATE

[Public Notice: 12376]

Meeting on Implementation of the United States-Singapore Free Trade Agreement Environment Chapter and Biennial Review Under the United States-Singapore Memorandum of Intent on Environmental Cooperation

AGENCY: U.S. Department of State.

ACTION: Notice of meetings and request for comments; invitation to public session.

SUMMARY: The U.S. Department of State and the Office of the United States Trade Representative (USTR) are providing notice that the United States and Singapore intend to hold a meeting on implementation of Chapter 18 (Environment) of the United States-Singapore Free Trade Agreement (FTA) and a biennial review under the Memorandum of Intent between the United States of America and the Republic of Singapore on Cooperation in Environmental Matters (MOI) on April 19, 2024. The purposes of these two meetings, respectively, are to review implementation of FTA Chapter 18 (Environment) and to review the results of environmental cooperation under the MOI guided by the 2022-2023 Plan of Action (POA) and to approve the 2024-2025 POA.

DATES: The joint public session of the meeting on implementation of Chapter 18 (Environment) of the United States-Singapore FTA and the biennial review under the MOI will be held by teleconference on April 19, 2024, from 12 p.m. to 1 p.m. EDT. Instructions on submitting requests to participate in the virtual public session or on submitting questions or comments are under the heading ADDRESSES. Submissions should be made in writing no later than April 12, 2024.

ADDRESSES: Requests to participate in the virtual public session and written comments or questions should use “United States-Singapore FTA Environment Chapter Implementation/MOI Review Meetings” as the subject line and be submitted to both: (1) Merideth Manella, U.S. Department of State, Bureau of Oceans and International Environmental and Scientific Affairs, Office of Environmental Quality, by email to ManellaM@state.gov and (2) Amy Kreps, Office of the United States Trade Representative, by email to Amy.S.Kreps2@ustr.eop.gov.

When preparing comments, submitters are encouraged to refer to Chapter 18 of the FTA and/or the MOI, as relevant (available at https://ustr.gov/sites/default/files/Sngapore-Environment%20Chapter.pdf and https://2001-2009.state.gov/g/oes/rls/or/22193.htm). In your email, please include your full name and organization.

If you have access to the internet, you can view and comment on this notice by going to: http://www.regulations.gov/#!home and searching for docket number DOS-2024-0014.

FOR FURTHER INFORMATION CONTACT: Merideth Manella, (202) 286-5271, ManellaM@state.gov or Amy Kreps, (202) 881-8903, Amy.S.Kreps2@ustr.eop.gov.

SUPPLEMENTARY INFORMATION: The U.S. Department of State and USTR invite interested organizations and members of the public to submit comments or suggestions regarding any issues that should be discussed at the meetings and to participate in a virtual public session that will be held on April 19, 2024 at 12 p.m. EDT via teleconference. Instructions on how to submit comments or to participate in the virtual public session are under the heading ADDRESSES.

Article 18.4 of the FTA provides for institutional arrangements to discuss matters related to the operation of Chapter 18 (Environment). Article 18.5 further provides for opportunities for public participation in the discussion of matters related to the operation of Chapter 18 (Environment).

Section III of the MOI establishes that the United States and Singapore plan to meet at least biennially to review the status of cooperation under the MOI and that the two governments intend to devise and update a Plan of Action setting out cooperative projects to be pursued.

Visit the Department of State website at www.state.gov and the USTR website at www.ustr.gov for more information.

Scott B. Ticknor,
Director, Office of Environmental Quality, U.S. Department of State.

[FR Doc. 2024-07681 Filed 4-10-24; 8:45 am]

BILLING CODE 4710-09-P